DEPARTMENT OF COMMERCE

National Institute of Standards and Technology

National Voluntary Laboratory Accreditation Program—Proposed Revisions to the Personal Body Armor Laboratory Accreditation Program

AGENCY: National Institute of Standards and Technology, Commerce.

ACTION: Notice; request for comment.

SUMMARY: The Chief of the National Institute of Standards and Technology's (NIST) National Voluntary Laboratory Accreditation Program (NVLAP) may approve modifications to a specific Laboratory Accreditation Program (LAP) when a request to modify the LAP is received. Modifications may include addition of tests, types of tests or standards that are directly relevant to the LAP. NVLAP has received a request to revise the name of its Personal Body Armor LAP to the Law Enforcement and Corrections Equipment LAP in order to better encompass the scope of this program. NVLAP has also received a request to expand the technology tested under this program to include rifle testing, helmet testing and shield testing. NIST seeks feedback from the public on these proposed revisions.

DATES: Comments must be received by 5 p.m. Eastern Time on April 19, 2021.

ADDRESSES: Comments on the proposed revisions must be submitted to: Chief, National Voluntary Laboratory Accreditation Program, 100 Bureau Drive, Stop 2140, Gaithersburg, MD 20899-2140 or by sending email to nvlap@nist.gov.

FOR FURTHER INFORMATION CONTACT: Dana S. Leaman, Chief, NIST/NVLAP, 100 Bureau Drive, Stop 2140, Gaithersburg, MD 20899-2140, Phone: (301) 975-4016 or email: dana.leaman@nist.gov. Information regarding NVLAP and the accreditation process can be obtained from http://www.nist.gov/nvlap.

SUPPLEMENTARY INFORMATION:

I. Background

NIST administers NVLAP under regulations found in 15 CFR part 285. NVLAP provides an unbiased third-party evaluation and recognition of laboratory performance, as well as expert technical assistance to upgrade that performance, by accrediting calibration and testing laboratories found competent to perform specific calibrations or tests. NVLAP is comprised of a set of LAPs which are established on the basis of requests and demonstrated need. Each LAP includes specific calibration and/or test standards and related methods and protocols assembled to satisfy the unique needs for accreditation in the field of calibration, field of testing, product or service. Under NVLAP's Procedures and General Requirements, available at https://nvlpubs.nist.gov/nistpubs/hb/2020/NIST.HB.150-2020.pdf, the Chief of NVLAP (Chief) may seek input from interested parties when proposed modifications to a LAP are analyzed.

The NVLAP Personal Body Armor LAP was established in 2006 at the request of the U.S. Department of Justice (DOJ) National Institute of Justice (NIJ) Office of Science and Technology. The LAP was developed to accredit laboratories for body armor testing in support of the NIJ Compliance Testing Program (CTP). Presently, the LAP encompasses accreditation of ballistic-resistant body armor testing, stab-resistant body armor testing, and autoloading pistol testing. Based on the requests for modification to the Personal Body Armor LAP, the Chief has preliminarily determined that revision of the program name to the Law Enforcement and Corrections Equipment LAP is supported by the program stakeholder and the laboratories accredited in the current program. Additionally, the Chief has preliminarily determined that there is also support to expand testing in the program to include rifle testing, helmet testing and shield testing.

II. Request for Comments

NVLAP solicits comments on whether (a) the additional tests or calibrations, types of tests or calibrations, or standards requested are directly relevant to the LAP; (b) it is feasible and practical to accredit testing or calibration laboratories for the additional tests or calibrations, types of tests or calibrations, or standards; and (c) it is likely that laboratories will seek accreditation for the additional tests or calibrations, types of tests or calibrations, or standards. NVLAP also specifically invites comments on: (a) Whether the proposed change to the name of the laboratory accreditation program will better reflect the testing encompassed under the LAP; and (b) whether the addition of accreditation for rifle testing, helmet testing and shield testing will support the NIJ's CTP as it relates to the performance and safety of equipment for use in law enforcement and corrections applications.

After analyzing the public comments, the Chief shall publish a Federal Register notice regarding a decision on whether the LAP will be revised.

Authority: 15 U.S.C. 272(b) & (c).

Kevin A. Kimball,
Chief of Staff.

[FR Doc. 2021-05687 Filed 3-18-21; 8:45 am]

BILLING CODE 3510-13-P